DEPARTMENT OF COMMERCE

International Trade Administration

[A-570-979]

Crystalline Silicon Photovoltaic Cells, Whether or Not Assembled Into Modules, From the People's Republic of China: Preliminary Results of Antidumping Duty Administrative Review, Partial Rescission of Antidumping Administrative Review, and Preliminary Determination of No Shipments; 2021-2022

AGENCY: Enforcement and Compliance, International Trade Administration, Department of Commerce.

SUMMARY: The U.S. Department of Commerce (Commerce) preliminarily determines that Shenzhen Sungold Solar Co., Ltd. (Sungold), and the companies which Commerce preliminarily granted separate rates, did not sell subject merchandise at prices below normal value (NV) during the period December 1, 2021, through November 30, 2022, the period of review (POR). Commerce also preliminarily determines that certain companies do not qualify for a separate rate, and that it is appropriate to rescind this review with respect to 10 companies because all requests to review these companies were timely withdrawn. In addition, Commerce intends to rescind this review with respect to certain companies that did not ship subject merchandise during the POR. Interested parties are invited to comment on these preliminary results of the review.

DATES: Applicable January 4, 2024.

FOR FURTHER INFORMATION CONTACT: Dakota Potts or Paola Aleman Ordaz, AD/CVD Operations, Office IV, Enforcement and Compliance, International Trade Administration, Department of Commerce, 1401 Constitution Avenue NW, Washington, DC 20230; telephone: (202) 482-0223, or (202) 482-4031, respectively.

SUPPLEMENTARY INFORMATION:

Background

In response to review requests from multiple parties, on February 2, 2023, Commerce initiated an administrative review of the antidumping duty order on crystalline silicon photovoltaic cells, whether or not assembled into modules (solar cells), from the People's Republic of China (China) with respect to 68 companies/company groupings for the period December 1, 2021, through November 30, 2022.¹

¹ See Initiation of Antidumping and Countervailing Duty Administrative Reviews, 88 FR 7060, 7062-63 (February 2, 2023).

On April 20, 2023, Commerce selected two exporters to individually examine as mandatory respondents, Yingli ² and Shenzhen Glory Industries Co., Ltd. (Shenzhen Glory).³ Shenzhen Glory timely withdrew its request for review, and no other party requested a review of Shenzhen Glory.⁴ Therefore, Commerce selected Sungold as an additional mandatory respondent on May 1, 2023.⁵ On September 8, 2023, Commerce also selected Anji DaSol Solar Energy Science & Technology Co., Ltd. (Anji DaSol) as a mandatory respondent.⁶ However, Anji DaSol declined to participate in this review.

² Yingli refers to the following companies which Commerce has treated as a single entity: (1) Shenzhen Yingli New Energy Resources Co., Ltd.; (2) Baoding Jiasheng Photovoltaic Technology Co. Ltd.; (3) Baoding Tianwei Yingli New Energy Resources Co., Ltd.; (4) Beijing Tianneng Yingli New Energy Resources Co., Ltd.; (5) Hainan Yingli New Energy Resources Co., Ltd.; (6) Hengshui Yingli New Energy Resources Co., Ltd.; (7) Lixian Yingli New Energy Resources Co., Ltd.; (8) Tianjin Yingli New Energy Resources Co., Ltd.; and (9) Yingli Energy (China) Company Limited.

³ See Memorandum, “Respondent Selection,” dated April 20, 2023.

⁴ See Shenzhen Glory's Letter, “Withdrawal of Request for Administrative Review,” dated April 21, 2023.

⁵ See Memorandum, “Respondent Selection,” dated May 1, 2023.

⁶ See Memorandum, “Respondent Selection,” dated September 8, 2023.

On August 30, 2023, Commerce extended the time limit for issuing the preliminary result of this review until December 29, 2023.⁷

⁷ See Memorandum, “Extension of Deadline for Preliminary Results of Antidumping Duty Administrative Review,” dated August 30, 2023.

For details regarding the events that occurred subsequent to the initiation of the review, see the Preliminary Decision Memorandum.⁸

⁸ See Memorandum, “Decision Memorandum for the Preliminary Results of the 2021-2022 Administrative Review of the Antidumping Duty Order on Crystalline Silicon Photovoltaic Cells, Whether or not Assembled into Modules, from the People's Republic of China,” dated concurrently with, and hereby adopted by, this notice (Preliminary Decision Memorandum).

Scope of the Order ⁹

⁹ See Crystalline Silicon Photovoltaic Cells, Whether or Not Assembled Into Modules, from the People's Republic of China: Amended Final Determination of Sales at Less Than Fair Value, and Antidumping Duty Order, 77 FR 73018 (December 7, 2012) (Order).

The merchandise covered by the Order is crystalline silicon photovoltaic cells, and modules, laminates, and panels, consisting of crystalline silicon photovoltaic cells, whether or not partially or fully assembled into other products, including, but not limited to, modules, laminates, panels and building integrated materials.¹⁰ Merchandise covered by this Order is currently classified under subheadings 8501.71.0000, 8501.72.1000, 8501.72.2000, 8501.72.3000, 8501.72.9000, 8501.80.1000, 8501.80.2000, 8501.80.3000, 8501.80.9000, 8507.20.8010, 8507.20.8031, 8507.20.8041, 8507.20.8061, 8507.20.8091, 8541.42.0010, and 8541.43.0010 of the Harmonized Tariff Schedule of the United States (HTSUS).¹¹ Although the HTSUS subheadings are provided for convenience and customs purposes, our written description of the scope of the Order is dispositive.

¹⁰ For a complete description of the scope of the order, see Issues Decision Memorandum.

¹¹ During the POR, solar cells and modules were primarily classified under HTSUS subheadings 8541.40.6015 and 8541.40.6025. These two categories were updated to USHTS subheadings 8541.42.0010 and 8541.43.0010 in 2022.

Partial Rescission of Administrative Review

Pursuant to 19 CFR 351.213(d)(1), Commerce will rescind an administrative review, in whole or in part, if all parties that requested the review withdraw their requests within 90 days of the date of publication of the notice of initiation of the requested review. All parties timely withdrew their requests for an administrative review, and thus, Commerce is rescinding its review of the following companies: (1) Jinko Solar Technology Sdn. Bhd.; (2) Jinko Solar (Malaysia) Sdn. Bhd.; (3) Jinkosolar Middle East DMCC; (4) Shenzhen Glory; (5) Boviet Solar Technology Co., Ltd.; (6) CSI Solar Power Group Co., Ltd.; (7) New East Solar Energy Cambodia Co., Ltd.; (8) Vina Cell Technology Company Limited; (9) Vina Solar Technology Company Limited; and (10) Canadian Solar Manufacturing, Inc.

Intent To Rescind Administrative Review in Part

Based on record evidence obtained from U.S. Customs and Border Protection (CBP), we preliminarily determine that there are no suspended entries during the POR for the companies listed in Appendix II, all of which have existing separate rates.¹² In the absence of any suspended entries of subject merchandise from these companies during the POR, Commerce intends to rescind its review of these companies in the final results of this review.

¹² See Preliminary Decision Memorandum.

Commerce also intends to rescind this review with respect to Red Sun Energy Long An Company Limited. See the Preliminary Decision Memorandum for details.

Companies Not Reviewed

Based on record evidence obtained from CBP, we preliminarily determine that there are no suspended entries during the POR for the companies listed in Appendix III, all of which currently do not have a separate rate.¹³ In the absence of any suspended entries of subject merchandise from these companies during the POR, and based on the fact that these companies do not have a separate rate and are part of the China-wide entity, which is not under review as no parties requested a review of the entity, we are not conducting a review of these companies.

¹³ Id.

Preliminary Determination of No Shipments

Trina Solar (Changzhou) Science and Technology Co., Ltd. (Trina Solar Changzhou) and Jinko Solar,¹⁴ claimed that they did not ship subject merchandise during the POR. However, entry data obtained from CBP appear to contradict those claims.¹⁵ Additionally, the American Alliance for Solar Manufacturing (the petitioner) placed Datamyne data on the record which it claims shows that Jinko Solar may have shipped subject merchandise during the POR.

¹⁴ Jinko Solar refers to the following companies which Commerce has previously treated as a single entity: Jinko Solar Import and Export Co., Ltd.; Jinko Solar Co., Ltd.; Jinko Solar Technology (Haining) Co., Ltd.; Yuhuan Jinko Solar Co., Ltd.; Zhejiang Jinko Solar Co., Ltd.; Jiangsu Jinko Tiansheng Solar Co., Ltd. ; JinkoSolar (Chuzhou) Co., Ltd.; JinkoSolar (Yiwu) Co., Ltd.; and JinkoSolar (Shangrao) Co., Ltd.

¹⁵ See Preliminary Decision Memorandum.

After analyzing the information on the record, we preliminarily determine that there is no evidence that Trina Solar Changzhou or Jinko Solar failed to properly report entries of their subject merchandise.¹⁶ If our determination remains unchanged in the final results of this review, we will instruct CBP to liquidate entries of subject merchandise during the POR that were recorded under the company-specific case numbers for Trina Solar Changzhou or Jinko Solar at the China-wide rate.

¹⁶ Id.

Application of Facts Available With Adverse Inferences

Sungold's solar cell suppliers failed to provide factors of production (FOP) data for use in calculating the weighted-average dumping margin of Sungold. Because the solar cells suppliers are interested parties, and they declined to provide requested information, that information is not on the record. Consequently, we have preliminarily applied partial facts available with adverse inferences in place of the missing FOP data, pursuant to sections 776(a)(1), (2)(A)-(C), and 776(b) of the Tariff Act of 1930, as amended (the Act). For details regarding this preliminary determination, see the Preliminary Decision Memorandum.

Separate Rates

We have preliminarily determined that the companies listed in the table in the “Preliminary Results of Review” section of this notice below demonstrated that they qualified for a separate rate but the companies listed in Appendix IV have not done so. Consequently, we have preliminarily treated the companies listed in Appendix IV as part of the China-wide entity. Because no party requested a review of the China-wide entity, the entity's dumping margin is 238.95 percent ¹⁷ and not subject to change.¹⁸ For additional information regarding Commerce's preliminary separate rate determinations, see the Preliminary Decision Memorandum.

¹⁷ The China-wide entity rate was last changed in the first administrative review of this proceeding and has been the applicable rate for the entity in each subsequent review, including the most recently completed review. See Crystalline Silicon Photovoltaic Cells, Whether or Not Assembled Into Modules, from the People's Republic of China: Final Results of Antidumping Duty Administrative Review and Final Determination of No Shipments; 2012-2013, 80 FR 40998, 41002 (July 14, 2015) (Solar Cells from China AR1 Final); see also Crystalline Silicon Photovoltaic Cells, Whether or Not Assembled Into Modules, from the People's Republic of China: Final Results of Antidumping Duty Administrative Review and Final Determination of No Shipments; 2019-2020, 87 FR 38379, 38381 (June 28, 2022).

¹⁸ See Antidumping Proceedings: Announcement of Change in Department Practice for Respondent Selection in Antidumping Duty Proceedings and Conditional Review of the Nonmarket Economy Entity in NME Antidumping Duty Proceedings, 78 FR 65963 (November 4, 2013).

Dumping Margins for Separate Rate Companies

The statute and Commerce's regulations do not address what dumping margin to apply to respondents that are not selected for individual examination in an administrative review pursuant to section 777A(c)(2) of the Act. Generally, Commerce looks to section 735(c)(5) of the Act, which provides instructions for calculating the all-others rate in an investigation, for guidance when calculating the dumping margin for respondents that are not individually examined in an administrative review. Under section 735(c)(5)(A) of the Act, the all-others rate is normally “equal to the weighted average of the estimated weighted average dumping margins established for exporters and producers individually investigated, excluding any zero and de minimis dumping margins, and any dumping margins determined entirely {on the basis of facts available}.” When the weighted-average dumping margins established for all individually examined respondents are zero, de minimis, or based entirely on facts available, section 735(c)(5)(B) of the Act permits Commerce to “use any reasonable method to establish the estimated all-others rate for exporters and producers not individually investigated, including averaging the estimated weighted average dumping margins determined for the exporters and producers individually investigated.” Consistent with Commerce's practice,¹⁹ we preliminarily determine that a reasonable method would be to assign a dumping margin to the non-individually examined separate rate companies equal to the zero percent preliminary dumping margin calculated for Sungold. For additional information,see the Preliminary Decision Memorandum.

¹⁹ See Wooden Cabinet and Vanities and Components Thereof From the People's Republic of China: Final Results and Partial Rescission of the Antidumping Duty Administrative Review; 2019-2021, 87 FR 67674 (November 9, 2022), and accompanying Issues and Decision Memorandum at Comment 5.

Methodology

Commerce is conducting this administrative review in accordance with section 751(a)(1)(B) of the Act. In determining Sungold's dumping margin, we calculated export prices in accordance with section 772 of the Act. Because Commerce previously determined that China is a non-market economy country,²⁰ within the meaning of section 771(18) of the Act, we calculated normal value in accordance with section 773(c) of the Act.

²⁰ See Antidumping Duty Investigation of Certain Aluminum Foil from the People's Republic of China: Affirmative Preliminary Determination of Sales at Less-Than-Fair Value and Postponement of Final Determination, 82 FR 50858, 50861 (November 2, 2017) (citing Memorandum, “China's Status as a Non-Market Economy,” dated October 26, 2017), unchanged in Certain Aluminum Foil from the People's Republic of China: Final Determination of Sales at Less Than Fair Value, 83 FR 9282 (March 5, 2018).

For a full description of the methodology underlying the preliminary results of this review, see the Preliminary Decision Memorandum. A list of topics discussed in the Preliminary Decision Memorandum is included as Appendix I to this notice. The Preliminary Decision Memorandum is a public document and is made available to the public via Enforcement and Compliance's Antidumping and Countervailing Duty Centralized Electronic Service System (ACCESS). ACCESS is available to registered users at https://access.trade.gov. In addition, a complete version of the Preliminary Decision Memorandum is available at https://access.trade.gov/public/FRNoticesListLayout.aspx.

Preliminary Results of Review

We are assigning the following dumping margins to the firms listed below for the period December 1, 2021, through November 30, 2022:

Exporter | Weighted-average dumping margin (percent)
Shenzhen Sungold Solar Co., Ltd | 0.00
Review-Specific Average Rate Applicable to the Following Companies
BYD (Shangluo) Industrial Co., Ltd | 0.00
Hongkong Hello Tech Energy Co., Ltd | 0.00
Trina Solar Co., Ltd | 0.00
Trina Solar Science & Technology (Thailand) Ltd | 0.00
Zhejiang Aiko Solar Energy Technology Co., Ltd | 0.00

Disclosure

Commerce intends to disclose to parties to the proceeding the calculations performed for these preliminary results of review to interested parties within five days after public announcement of the preliminary results or, if there is no public announcement, within five days of the date of publication of this notice in the Federal Register in accordance with 19 CFR 351.224(b).

Public Comment

Interested parties may submit case briefs to Commerce no later than 30 days after the date of publication of these preliminary results of review in the Federal Register.²¹ Interested parties may file rebuttal briefs, that are limited to the issues raised in case briefs, not later than five days after the date for filing case briefs.²² Interested parties who submit case or rebuttal briefs must submit: (1) a table of contents listing each issue discussed in the brief; and (2) a table of authorities.²³

²¹ See 19 CFR 351.309(c)(ii).

²² See 19 CFR 351.309(d); see also Administrative Protective Order, Service, and Other Procedures in Antidumping and Countervailing Duty Proceedings, 88 FR 67069, 67077 (September 29, 2023) (APO and Final Service Rule).

²³ See 19 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.²⁴ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).²⁵

²⁴ We use the term “issue” here to describe an argument that Commerce would normally address in a comment of the Issues and Decision Memorandum.

²⁵ See APO and Final Service Rule.

Pursuant to 19 CFR 351.310(c), interested parties who wish to request a hearing, limited to issues raised in the case and rebuttal briefs, must submit a written request for a hearing to the Assistant Secretary for Enforcement and Compliance, U.S. Department of Commerce, filed electronically via ACCESS, within 30 days after the date of publication of this notice in the Federal Register. Requests for a hearing should contain: (1) the requesting party's name, address, and telephone number; (2) the number of individuals associated with the requesting party that will attend the hearing and whether any of those individuals is a foreign national; and (3) a list of the issues the party intends to discuss at the hearing. If a request for a hearing is made, Commerce intends to hold the hearing at a time and date to be determined. Parties should confirm by telephone the date, time, and location of the hearing two days before the scheduled hearing date.

Final Results of Review

Unless otherwise extended, Commerce intends to issue the final results of this administrative review, which will include the results of its analysis of issues raised in any briefs, within 120 days of publication of these preliminary results of review in the Federal Register, pursuant to section 751(a)(3)(A) of the Act.

Assessment Rates

Upon issuance of the final results of this review, Commerce will determine, and CBP shall assess, antidumping duties on all appropriate entries covered by this review.²⁶ Commerce intends to issue assessment instructions to CBP no earlier than 35 days after the date of publication of the notice of the final results of this review in the Federal Register. If a timely summons is filed at the U.S. Court of International Trade, the assessment instructions will direct CBP not to liquidate relevant entries until the time for parties to file a request for a statutory injunction has expired (i.e., within 90 days of publication).

²⁶ See Antidumping Proceedings: Calculation of the Weighted Average Dumping Margin and Assessment Rate in Certain Antidumping Proceedings: Final Modification, 77 FR 8101 (February 14, 2012) (Final Modification).

Where a respondent's weighted average dumping margin is zero percent or de minimis, or an importer/customer-specific ad valorem assessment rate is zero percent or de minimis, Commerce's practice is to instruct CBP to liquidate the appropriate entries without regard to dumping duties.²⁷ Thus, if Commerce continues to calculate a weighted-average dumping margin of zero percent for Sungold in the final results of this review, it will instruct CBP to liquidate entries of Sungold's subject merchandise during the POR without regard to antidumping duties.

²⁷ See Drawn Stainless Steel Sinks from the People's Republic of China: Preliminary Results of the Antidumping Duty Administrative Review and Preliminary Determination of No Shipments; 2014-2015, 81 FR 29528 (May 12, 2016), and accompanying Issues and Decision Memorandum at 10-11, unchanged in Drawn Stainless Steel Sinks from the People's Republic of China: Final Results of Antidumping Duty Administrative Review; Final Determination of No Shipments; 2014-2015, 81 FR 54042 (August 15, 2016).

However, if Sungold's final weighted-average dumping margin is not zero percent or de minimis (i.e., less than 0.5 percent), Commerce intends to calculate importer/customer-specific assessment rates ²⁸ by dividing the total amount of dumping for reviewed sales to the importer/customer by the total quantity of those sales. Commerce will calculate an estimated ad valorem importer/customer-specific assessment rate to determine whether the per-unit assessment rate is de minimis; however, it will instruct CBP to apply the per-unit assessment rate.²⁹

²⁸ See 19 CFR 351.212(b)(1).

²⁹ See Final Modification, 77 FR 8103.

Commerce will base the assessment rate of the respondents that were not selected for individual examination that qualify for a separate rate on the weighted-average dumping margin that it calculates for Sungold in the final results of this review.³⁰

³⁰ See NME Assessment of Dumping Duties, for a full discussion of this practice.

Pursuant to a refinement of its practice, Commerce will instruct CBP to liquidate entries of Sungold's subject merchandise for which sales were not reported in the U.S. sales database at the dumping margin assigned to the China-wide entity.³¹

³¹ See Solar Cells from China AR1 Final, 80 FR 41002.

Additionally, we intend to instruct CBP to liquidate entries of subject merchandise during the POR that were recorded under the company-specific case numbers for Trina Solar Changzhou or Jinko Solar at the China-wide rate.

Cash Deposit Requirements

The following cash deposit requirements will be in effect for all shipments of subject merchandise entered, or withdrawn from warehouse, for consumption on, or after, the date of publication of the notice of the final results of this administrative review in the Federal Register, as provided for by section 751(a)(2)(C) of the Act: (1) for the exporters listed in the table in the “Preliminary Results of Review” section of this notice above, the cash deposit rate will be equal to the weighted-average dumping margin established in the final results of this review for the exporter (except, if the dumping margin is de minimis (i.e., less than 0.5 percent), then the cash deposit rate will be zero for that exporter); (2) for previously investigated or reviewed Chinese and non-Chinese exporters that are not listed in the rate table in the final results of review that have separate rates, the cash deposit rate will continue to be the exporter's existing cash deposit rate; (3) for all China exporters of subject merchandise that do not have a separate rate, the cash deposit rate will be equal to the weighted-average dumping margin assigned to the China-wide entity, which is 238.95 percent, and (4) for all non-China exporters of subject merchandise that do not have a separate rate, the cash deposit rate will be equal to the weighted-average dumping margin applicable to the China exporter(s) that supplied that non-China exporter. These cash deposit requirements, when imposed, shall remain in effect until further notice.

Notification to Importers

This notice serves as a preliminary reminder to importers of their responsibility under 19 CFR 351.402(f)(2) to file a certificate regarding the reimbursement of antidumping duties and/or countervailing duties prior to liquidation of the relevant entries during this POR. Failure to comply with this requirement could result in Commerce's presumption that reimbursement of antidumping duties and/or countervailing duties has occurred, and the subsequent assessment of double antidumping duties, and/or an increase in the amount of antidumping duties by the amount of the countervailing duties.

Notification to Interested Parties

We are issuing and publishing these preliminary results of review in accordance with sections 751(a)(1) and 777(i)(1) of the Act and 19 CFR 351.213 and 351.221(b)(4).

Dated: December 28, 2023.
Abdelali Elouaradia,
Deputy Assistant Secretary for Enforcement and Compliance.

Appendix I

List of Topics Discussed in the Preliminary Decision Memorandum

I. Summary

II. Background

III. Scope of the Order

IV. Preliminary Successor-in-Interest Determination

V. Partial Rescission of Administrative Review

VI. Intent To Rescind Administrative Review in Part

VII. Companies Not Reviewed

VIII. Preliminary No-Shipments Determination

IX. Discussion of the Methodology

X. Recommendation

Appendix II

Companies for Which Commerce Intends To Rescind the Review

1. Canadian Solar International Limited; Canadian Solar Manufacturing (Changshu) Inc.; Canadian Solar Manufacturing (Luoyang) Inc.; CSI Cells Co., Ltd.; CSI Solar Co., Ltd.; and CSI Solar Manufacturing (Fu Ning) Co., Ltd.

2. Chint Solar (Hong Kong) Company Limited; Chint Solar (Jiuquan) Co., Ltd.; Chint Solar (Zhejiang) Co., Ltd.; and Chint New Energy Technology (Haining) Co., Ltd.

3. JA Solar Technology Yangzhou Co., Ltd.

4. Jiawei Solarchina Co., Ltd.

5. JingAo Solar Co., Ltd.

6. Longi Solar Technology Co. Ltd.

7. Risen Energy Co. Ltd.; Risen Energy (Changzhou) Co., Ltd.; Risen (Wuhai) New Energy Co., Ltd.; Zhejiang Twinsel Electronic Technology Co., Ltd.; Risen (Luoyang) New Energy Co., Ltd.; Jiujiang Shengchao Xinye Technology Co., Ltd.; Jiujiang Shengzhao Xinye Trade Co., Ltd.; Ruichang Branch, Risen Energy (HongKong) Co., Ltd.; and Risen Energy (YIWU) Co., Ltd.

8. Shanghai BYD Co., Ltd.

9. Shanghai JA Solar Technology Co., Ltd.

10. Shenzhen Topray Solar Co., Ltd.

11. Wuxi Tianran Photovoltaic Co., Ltd.

12. Xiamen Yiyusheng Solar Co., Ltd.

Appendix III

Companies Not Reviewed

1. Renesola Jiangsu Ltd.

2. BYD H.K. Co., Ltd.

3. CSI Modules (DaFeng) Co., Ltd.

4. De-Tech Trading Limited HK

5. Hengdian Group DMEGC Magnetics Co. Ltd.

6. JA Solar Co., Ltd.

7. Jiawei Solarchina (Shenzhen) Co., Ltd.

8. Lightway Green New Energy Co., Ltd.

9. Longi (HK) Trading Ltd.

10. Ningbo ETDZ Holdings, Ltd.

11. Ningbo Qixin Solar Electrical Appliance Co., Ltd.

12. ReneSola Zhejiang Ltd.

13. Shanghai Nimble Co., Ltd.

14. Sumec Hardware & Tools Co., Ltd.

15. Suntech Power Co., Ltd.

16. Taizhou BD Trade Co., Ltd.

17. tenKsolar (Shanghai) Co., Ltd.

18. Trina Solar Energy Development PTE Ltd.

19. Jinko Solar International Limited

20. Luoyang Suntech Power Co., Ltd.

21. Trina Solar (Singapore) Science and Technology Pte. Ltd.

22. Yingli Green Energy International Trading Company Limited

23. Trina Solar Energy Development Company Limited

24. Changzhou Trina Hezhong Photoelectric Co., Ltd.

25. Changzhou Trina Solar Energy Co., Ltd.

26. Changzhou Trina Solar Yabang Energy Co., Ltd.

27. Hubei Trina Solar Energy Co., Ltd.

28. Trina Solar (Hefei) Science and Technology Co., Ltd.

29. Turpan Trina Solar Energy Co., Ltd.

30. Yancheng Trina Guoneng Photovoltaic Technology Co., Ltd.

31. Yancheng Trina Solar Energy Technology Co., Ltd.

Appendix IV

Companies Preliminarily Determined To Be Part of the China-Wide Entity

1. Anji DaSol Solar Energy Science & Technology Co., Ltd.

2. Maodi Solar Technology (Dongguan) Co., Ltd.

3. Shenzhen Yingli New Energy Resources Co., Ltd.; Baoding Jiasheng Photovoltaic Technology Co. Ltd.; Baoding Tianwei Yingli New Energy Resources Co., Ltd.; (4) Beijing Tianneng Yingli New Energy Resources Co., Ltd.; Hainan Yingli New Energy Resources Co., Ltd.; Hengshui Yingli New Energy Resources Co., Ltd.; Lixian Yingli New Energy Resources Co., Ltd.; Tianjin Yingli New Energy Resources Co., Ltd.; and Yingli Energy (China) Company Limited.

4. Wuxi Suntech Power Co., Ltd.

[FR Doc. 2023-28999 Filed 1-3-24; 8:45 am]

BILLING CODE 3510-DS-P